DEPARTMENT OF COMMERCE

National Oceanic and Atmospheric Administration

[I.D. 080106B]

Endangered and Threatened Species; Take of Anadromous Fish

AGENCY: National Marine Fisheries Service (NMFS), National Oceanic and Atmospheric Administration (NOAA), Commerce.

ACTION: Applications for seven scientific research permits (1135, 1290, 1318, 1322, 1330, 1333, 1461).

SUMMARY: Notice is hereby given that NMFS has received seven scientific research permit application requests relating to Pacific salmonids. The proposed research is intended to increase knowledge of species listed under the Endangered Species Act (ESA) and to help guide management and conservation efforts.

DATES: Comments or requests for a public hearing on the applications must be received at the appropriate address or fax number (see ADDRESSES) no later than 5 p.m. Pacific standard time on September 6, 2006.

ADDRESSES: Written comments on the applications should be sent to the Protected Resources Division, NMFS, 1201 NE Lloyd Blvd., Suite 1100, Portland, OR 97232-1274. Comments may also be sent via fax to 503-230-5441 or by E-mail to resapps.nwr@NOAA.gov.

FOR FURTHER INFORMATION CONTACT: Garth Griffin, Portland, OR (ph.: 503-231-2005, Fax: 503-230-5441, E-mail: Garth.Griffin@noaa.gov). Permit application instructions are available from the address above.

SUPPLEMENTARY INFORMATION:

Species Covered in This Notice

The following listed species are covered in this notice:

Chinook salmon (Oncorhynchus tshawytscha): threatened lower Columbia River (LCR), threatened upper Willamette River (UWR), threatened Snake River (SR) fall, threatened SR spring/summer, endangered upper Columbia River (UCR).

Chum salmon (O. keta): threatened Columbia River.

Steelhead (O. mykiss): threatened LCR, threatened UWR, threatened UCR, threatened SR, threatened middle Columbia River.

Coho salmon (O. kisutch): threatened LCR.

Sockeye salmon (O. nerka): endangered SR.

Authority

Scientific research permits are issued in accordance with section 10(a)(1)(A) of the ESA (16 U.S.C. 1531 et seq.) and regulations governing listed fish and wildlife permits (50 CFR 222-226). NMFS issues permits based on findings that such permits: (1) are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 1135

The U. S. Geological Survey (USGS) is requesting a 5-year research permit to take adult and juvenile LCR steelhead. The purpose of this study is to collect information on the survival, growth, habitat use, population density, health, and life-histories of steelhead in the Wind River subbasin of southern Washington. The research would provide information to help state, tribal, and Federal managers in their efforts to restore LCR steelhead populations and habitats. Permit 1135 has been in place for almost five years and is due to expire on December 31, 2006. Adult and juvenile LCR steelhead would be observed/harassed during snorkel and habitat surveys. Juvenile LCR steelhead would be collected (using backpack electrofishers, minnow traps, angling, seines, and weir traps), anesthetized, sampled for biological data (length, weight, disease status) and tissues/scales. The fish would then be allowed to recover from the anesthesia and released. In addition, some juvenile LCR steelhead would be tagged with passive integrated transponders (PIT-tags), some would be killed for pathological analyses, and a few more may die as an unintended result of the research.

Permit 1290

The Northwest Fisheries Science Center (NWFSC) is requesting a 5-year research permit that would allow them to take all fish species covered in this notice while conducting research in the Columbia River estuary. The purposes of the research are to determine the prevalence and intensity of pathogens in juvenile salmonids and investigate the relationship between forage fish populations in the estuary and salmonid survival. The research would benefit the fish by contributing information on (1) the extent to which diseases affect juvenile salmonid growth and survival in the estuarine and early ocean environments and (2) the relationship between forage fish abundance and salmonid survival in the estuary and marine environments. If the researchers cannot obtain enough fish samples from the Columbia River estuary, they ask to collect fish at the juvenile bypass facility at Bonneville Dam. Permit 1290 has been in place for almost five years and is due to expire on December 31, 2006. Juvenile salmonids would be variously collected (using beach and purse seines), anesthetized, weighed, scanned for tags, fin clipped, sampled for stomach contents, allowed to recover from the anesthesia, and released. Not all fish would undergo all these procedures, but all would be anesthetized. In addition, some juvenile salmonids would be killed for pathological analyses, and a few more may die as an unintended result of the research.

Permit 1318

The Oregon Department of Fish and Wildlife (ODFW) is requesting a 5-year research permit that would allow them to take all fish species covered in this notice while conducting research in the Deschutes, Willamette, and Columbia Rivers in Oregon. The application contains six projects: (1) Warm water fish management surveys; (2) investigations of natural production of spring Chinook salmon in the Mohawk River subbasin; (3) genetic characterization of rainbow trout in the Upper Willamette System; (4) fish abundance, population status, genetics and disease surveys in the Upper Willamette Basin; (5) native rainbow and cutthroat trout surveys for abundance, size composition, and migration patterns in the mainstem McKenzie River; and (6) resident redband population estimates in the Deschutes River. The research would benefit the fish by providing information on fish population structure, abundance, genetics, disease occurrences, and species interactions. That information would be used to direct management actions to benefit listed species. Permit 1318 has been in place for almost five years and is due to expire on December 31, 2006. Juvenile salmonids would be collected (using boat electrofishing). Some fish would be anesthetized, sampled for length and weight, allowed to recover from the anesthesia, and released. Most salmonids would only be shocked and allowed to swim away, or be netted and released immediately. The ODFW does not intend to kill any of the fish being captured, but a small number may die as an unintended result of the activities.

Permit 1322

The NWFSC is requesting a 5-year research permit that would allow them to take all fish species covered in this notice while conducting research in the estuary and lower Columbia River. The objectives of the research are to (1) determine the presence and abundance of fall and spring Chinook, coho, and chum salmon in the estuary and lower Columbia River; (2) examine the relationship between juvenile salmon and lower Columbia River estuarine habitat; and (3) obtain information about flow change, sediment input, and habitat availability withe goal of developing a numerical model of the fishes' survival. The research would benefit listed salmonids by serving as a basis for estuarine restoration and preservation plans. Permit 1322 has been in place for almost five years and is due to expire on December 31, 2006. Juvenile salmonids would be collected (using trap nets, beach seines, and purse seines), anesthetized, measured, sampled for tissues, allowed to recover from the anesthesia, and released. Some juvenile salmonids would be killed to confirm species identification, catch composition, food habits, and timing of estuarine entry. A few more may die as an unintended result of the research.

Permit 1330

The Weyerhaeuser Company (Weyco) is requesting a 5-year research permit to take juvenile LCR Chinook salmon, LCR coho salmon, and LCR steelhead during the course of research to be conducted in the Toutle River and on lands owned by Weyco around Mt. St. Helens in Washington. The purposes of the research are to determine fish abundance and distribution in the North Fork Toutle River and monitor juvenile salmonids in watersheds affected by the 1980 eruption of Mt. St. Helens. The information collected would be used to help develop and implement effective forest management practices and regulations. The research would benefit listed species by contributing information that would help Weyco maintain high quality habitat and develop recovery plans for listed species. Permit 1330 has been in place for almost five years and is due to expire on December 31, 2006. Weyco proposes to capture fish using backpack electrofishing, measure, and release them. They does not intend to kill any of the fish being captured, but a small number may die as an unintended result of the activities.

Permit 1333

The Oregon State University (OSU) Department of Fisheries and Wildlife is requesting a 5-year research permit to take adult and juvenile UWR Chinook and steelhead during the course of research designed to evaluate floodplain and riparian restoration activities, test the effectiveness of new assessment tools for conservation planning, and improve aquatic habitat. The study would benefit listed salmonids by helping determine what actions are needed to restore ecological processes in salmon and steelhead habitat. Permit 1333 has been in place for almost five years and is due to expire on December 31, 2006. The OSU proposes to capture (using boat electrofishing), measure, examine for abnormalities, and release juvenile fish. Adult fish may be encountered but would not be netted. The OSU does not intend to kill any of the fish being captured, but a few may die as an unintended result of the activities.

Permit 1461

The USGS is requesting a 5-year research permit that would allow them to take all fish species covered in this notice while conducting research at Crims Island and the Julia Butler Hanson National Wildlife Refuge in the lower Columbia River. The purpose of the research is to determine fish species composition, habitat use, and salmon diet composition in the areas sampled. The data gathered would be used to guide and determine the effectiveness of habitat restoration activities in the lower Columbia River. The species would benefit from well-planned and monitored habitat restoration activities as well as (ultimately) the restored habitat itself. Permit 1461 has been in place since 2004; the USGS is requesting that the permit be issued for an additional five years. Juvenile salmonids would be collected (using beach seines, Fyke nets, backpack electrofishing, and boat electrofishing), and variously anesthetized, measured for length and weight, sampled for stomach contents and scales, marked (using fluorescent elastomers, Pan-jet needle-less inocculators, or batch-marked with a flourochrome dye), PIT-tagged, allowed to recover from the anesthesia, and released. Not all fish would undergo all these procedures, but all would be anesthetized. The USGS does not intend to kill any fish, but a small number may die as an unintended result of the activities.

This notice is provided pursuant to section 10(c) of the ESA. NMFS will evaluate the application, associated documents, and comments submitted to determine whether the application meets the requirements of section 10(a) of the ESA and Federal regulations.The final permit decisions will not be made until after the end of the 30-day comment period. NMFS will publish notice of its final action in the Federal Register.

Dated: August 1, 2006.
Angela Somma,
Chief, Endangered Species Division, Office of Protected Resources, National Marine Fisheries Service.

[FR Doc. E6-12751 Filed 8-4-06; 8:45 am]

BILLING CODE 3510-22-S